DEPARTMENT OF JUSTICE

Federal Bureau of Investigation

Agency Information Collection Activities: Reinstatement, With Change; Comment Request

Action: 60-Day Notice of Information Collection Under Review: Reinstatement, with change, of a previously approved collection for which approval has expired; Postgraduate Evaluation of the FBI National Academy and FBI National Academy Training Needs Assessment For Agency Executives.

The Department of Justice, Federal Bureau of Investigation, has submitted the following information collection request to the Office of Management and Budget (OMB) for review and approval in accordance with the Paperwork Reduction Act of 1995. The proposed information collection is published to obtain comments from the public and affected agencies. Comments are encouraged and will be accepted for 60 days until January 21, 2003. This process is conducted in accordance with 5 CFR 1320.10.

If you have comments, especially on the estimated public burden or associated response time, suggestions or need a copy of the proposed information collection instrument with instructions or additional information, please contact Paul Laskiewicz, FBI Academy, Quantico, Va. 22135.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Reinstatement, with change, of previously approved collection for which approval has expired.

(2) Title of the Form/Collection: Postgraduate Evaluation of the FBI National Academy and FBI National Academy Training Needs Assessment For Agency Executives.

(3) Agency form number, if any, and the applicable component of the Department of Justice sponsoring the collection: Form Number: None. Federal Bureau of Investigation, FBI Academy.

(4) Affected public who will be asked or required to respond, as well as a brief abstract: Primary: State and Local Law Enforcement Officers. Other: None. Abstract: This survey will consist of the following two instruments: Post Graduate Evaluation of the FBI National Academy and FBI National Academy Training Needs Assessment For Agency Executives. These are surveys to collect training related information and there are no sensitive or personal questions, therefore confidentiality is not guaranteed or necessary.

(5) An estimate of the total number of respondents and the amount of time estimated for an average respondent to respond/reply: 3700 respondents who will each require an average of 15 minutes to respond.

(6) An estimate of the total public burden (in hours) associated with the collection: The total annual public burden for this information collected is estimated to be 925 hours.

If additional information is required contact: Mr. Robert B. Briggs, Clearance Officer, Untied States Department of Justice, Information Management and Security Staff, Justice Management Division, Suite 1600, 601 D Street NW., Washington DC 2004.

Dated: November 19, 2002.
Robert B. Briggs,
Department Clearance Officer, United States Department of Justice.

[FR Doc. 02-29780 Filed 11-21-02; 8:45 am]

BILLING CODE 4410-02-M